DEPARTMENT OF COMMERCE

Foreign-Trade Zones Board

[S-8-2016]

Approval of Subzone Status; Thoma-Sea Marine Constructors, L.L.C.; Houma and Lockport, Louisiana

On January 28, 2016, the Executive Secretary of the Foreign-Trade Zones (FTZ) Board docketed an application submitted by the Houma-Terrebonne Airport Commission, grantee of FTZ 279, requesting subzone status subject to the existing activation limit of FTZ 279 on behalf of Thoma-Sea Marine Constructors, L.L.C., in Houma and Lockport, Louisiana.

The application was processed in accordance with the FTZ Act and Regulations, including notice in the Federal Register inviting public comment (81 FR 5707, February 3, 2016). The FTZ staff examiner reviewed the application and determined that it meets the criteria for approval.

Pursuant to the authority delegated to the FTZ Board's Executive Secretary (15 CFR 400.36(f)), the application to establish Subzone 279A is approved, subject to the FTZ Act and the Board's regulations, including Section 400.13, and further subject to FTZ 279's 2,000-acre activation limit.

Dated: May 25, 2016.
Andrew McGilvray,
Executive Secretary.

[FR Doc. 2016-12960 Filed 6-1-16; 8:45 am]

BILLING CODE 3510-DS-P